SOCIAL SECURITY ADMINISTRATION

Statement of Organization, Functions and Delegations of Authority

This statement amends Part S of the Statement of the Organization, Functions and Delegations of Authority which covers the Social Security Administration (SSA). The Office of the General Counsel is abolishing the Office of Program Litigation and incorporating the functions of the office into the Office of Program Law. The new material and changes are as follows:

Section S9.10 The Office of the General Counsel —(Organization):

Delete E. The Office of Program Litigation (S9C) in its entirety.

Reletter F. The Office of Program Law (S9E) to E.¹

Reletter G. The Office of Public Disclosure (S9H) to F.²

Reletter H. The Offices of the Regional Chief Counsels (S9G-F1—S9G-FX) to G.²

Section S9.20 The Office of the General Counsel—(Functions):

Replace in its entirety, D. The Office of General Law (S9B) with the following:

D. The Office of General Law (S9B).

1. Provides legal services to the Commissioner and all components of the Agency on all non-program legal issues affecting the Agency's business management activities and administrative operations including: Procurement; contracting; patents; copyrights; budget; appropriations; personnel; ethics; adverse employment actions; employment discrimination; compensation; travel; personnel; claims by and against SSA (including but not limited to those under the Federal Tort Claims Act); electronic service delivery; labor-management relations; Touhy requests; Office of Special Programs and Services investigations; salary and other overpayments; relationships with other governmental and nongovernmental entities; and administrative governance.

2. Provides legal services and advice regarding SSA's civil defense, civil rights and security programs as well as for SSA's administration of its disclosure regulations and related statutes including the Freedom of Information and Privacy Acts and Computer Matching Agreements. Provides liaison with the Department of Justice on administering the Freedom of Information and Privacy Acts. Serves as liaison with the Comptroller General.

3. Working under the direction of the Designated Agency Ethics Official (DAEO), manages the daily operation of the Agency's ethics programs, implements decisions of the DAEO, and provides liaison with the Office of Government Ethics, as appropriate.

4. Furnishes litigation support and litigation-related advice to the Commissioner and all components of SSA in both administrative and court litigation in connection with each of the areas mentioned above. Represents SSA in all such litigation when such direct representation is authorized by law. In other cases, makes and supervises contacts with attorneys responsible for the conduct of such litigation, including appropriate United States Attorneys and other Department of Justice officials.²

Delete E. The Office of Program Litigation (S9C).²

Reletter F. The Office of Program Law (S9E) to E.

Replace in its entirety the Functions of The Office of Program Law as follows:

1. Furnishes legal services and advice in connection with the operations and administration of the various programs administered by SSA under the Social Security Act and of other programs and areas that do not fall within the jurisdiction of the Office of General Law.¹

2. Drafts or reviews all SSA regulatory and other Federal Register materials and legal instruments relating to areas within the jurisdiction of the Office of Program Law.

3. Drafts or reviews proposed testimony of SSA officials before Congress relating to any area within the jurisdiction of the Office of Program Law.

4. Drafts proposals for legislation originating in SSA, reviews specifications for such proposed legislation and reviews all proposed legislation submitted by SSA for comment. Drafts or reviews reports and letters to congressional committees, the Office of Management and Budget and others on proposed legislation and legislative matters. Prescribes the procedures to govern the routing and review within SSA of material relating to proposed legislation.¹

5. Furnishes legal support and litigation related advice in both administrative court litigation in connection with the operations and administration by SSA of the various programs administered by SSA under the Social Security Act and of other programs and areas that do not fall within the jurisdiction of the Office of General Law.

6. Represents SSA in all such litigation when such direct representation is authorized by law and in other cases, makes and supervises contacts with attorneys responsible for the conduct of such litigation including appropriate United States Attorneys and other Department of Justice officials.

Reletter G. The Office of Public Disclosure (S9H) to F.

Reletter H. The Offices of the Regional Chief Counsels (S9G-F1—S9G-FX) to G.

¹ Federal Register—June 23, 2000.

² Federal Register—October 10, 2002.

Dated: September 11, 2003.
Jo Anne B. Barnhart,
Commissioner of Social Security.

[FR Doc. 03-24596 Filed 9-26-03; 8:45 am]

BILLING CODE 4191-02-P